DEPARTMENT OF AGRICULTURE

Agricultural Marketing Service

[Doc. No. TM-06-02]

Notice of Program Continuation

AGENCY: Agricultural Marketing Service, USDA.

ACTION: Notice Inviting Proposals for fiscal year (FY) 2006 grant funds under the Federal-State Marketing Improvement Program.

SUMMARY: Notice is hereby given for proposals for FY 2006 grant funds under the Federal-State Marketing Improvement Program (FSMIP). FSMIP anticipates that approximately $1.3 million will be available for support of this program in FY 2006. States interested in obtaining funds under the program are invited to submit proposals. While only State Departments of Agriculture or other appropriate State Agencies are eligible to apply for funds, State Agencies are encouraged to involve industry groups, academia, and community-based organizations in the development of proposals and the conduct of projects.

DATES: Funds will be allocated on the basis of one round of consideration. Proposals will be accepted through February 10, 2006.

ADDRESSES: Proposals may be sent to: FSMIP, Transportation and Marketing Programs, Agricultural Marketing Service (AMS), U.S. Department of Agriculture, 1400 Independence Avenue, SW., Room 4009 South Building, Washington, DC 20250.

FOR FURTHER INFORMATION CONTACT: Janise Zygmont, FSMIP Staff Officer, (202) 720-8043.

SUPPLEMENTARY INFORMATION: FSMIP is authorized under Section 204(b) of the Agricultural Marketing Act of 1946 (7 U.S.C. 1621 et seq.). FSMIP provides matching grants on a competitive basis to assist State Departments of Agriculture or other appropriate State agencies in conducting studies or developing innovative approaches related to the marketing of U.S. food and agricultural products. Other organizations interested in participating in this program should contact their State Department of Agriculture's Marketing Division to discuss their proposal.

Proposals are submitted by the State Agency and must be accompanied by completed Standard Forms (SF) 424 and 424A. AMS will not approve the use of FSMIP funds for advertising or, with limited exceptions, for the purchase of equipment. Detailed program guidelines may be obtained from your State Department of Agriculture, the above AMS contact, or the FSMIP Web site: http://www.ams.usda.gov/tmd/fsmip.htm.

FSMIP funds a wide range of applied research projects that address barriers, challenges, and opportunities in marketing, transportation, and distribution of U.S. food and agricultural products domestically and internationally.

Eligible agricultural categories include livestock, livestock products, food and feed crops, fish and shellfish, horticulture, viticulture, apiary, and forest products and processed or manufactured products derived from such commodities. Reflecting the growing diversity of U.S. agriculture, in recent years, FSMIP has funded projects dealing with nutraceuticals, bioenergy, compost, and products made from agricultural residues.

Proposals may deal with barriers, challenges, or opportunities manifesting at any stage of the marketing chain including direct, wholesale, and retail. Proposals may involve small, medium, or large scale agricultural entities but should potentially benefit multiple producers or agribusinesses. Proprietary proposals that benefit one business or individual will not be considered.

Proposals that address issues of importance at the State, regional or national level are appropriate for FSMIP. FSMIP also seeks unique proposals on a smaller scale that may serve as pilot projects or case studies useful as a model for others. Of particular interest are proposals that reflect a collaborative approach among the States, academia, the farm sector and other appropriate entities and stakeholders.

FSMIP's enabling legislation authorizes projects to:

—Determine the best methods for processing, preparing for market, packing, handling, transporting, storing, distributing, and marketing agricultural products.

—Determine the costs of marketing agricultural products in their various forms and through various channels.

—Assist in the development of more efficient marketing methods, practices, and facilities to bring about more efficient and orderly marketing, and reduce the price spread between the producer and the consumer.

—Develop and improve standards of quality, condition, quantity, grade, and packaging in order to encourage uniformity and consistency in commercial practices.

—Eliminate artificial barriers to the free movement of agricultural products in commercial channels.

—Foster new/expanded domestic/foreign markets and new/expanded uses of agricultural products.

—Collect and disseminate marketing information to anticipate and meet consumer requirements, maintain farm income, and balance production and utilization.

Applicants have the option of submitting FSMIP applications electronically through the central Federal grants web site, http://www.grants.gov instead of mailing hard copy documents. Applicants considering the electronic application option are strongly urged to familiarize themselves with the Federal grants web site well before the application deadline and to begin the application process before the deadline. Additional details about the FSMIP application process for all applicants are available at the FSMIP Web site: http://www.ams.usda.gov/tmd/fsmip.htm.

FSMIP is listed in the “Catalog of Federal Domestic Assistance” under number 10.156 and subject agencies must adhere to Title VI of the Civil Rights Act of 1964, which bars discrimination in all Federally assisted programs.

Authority: 7 U.S.C. 1621-1627.

Dated: November 28, 2005.
Lloyd C. Day,
Administrator, Agricultural Marketing Service.

[FR Doc. E5-6787 Filed 12-1-05; 8:45 am]

BILLING CODE 3410-02-P